DEPARTMENT OF COMMERCE

National Oceanic and Atmospheric Administration

RIN 0648-XF47

Endangered Species; File No. 1595

AGENCY: National Marine Fisheries Service (NMFS), National Oceanic and Atmospheric Administration (NOAA), Commerce.

ACTION: Notice; receipt of application for modification

SUMMARY: Notice is hereby given that Mr. Michael M. Hastings, University of Maine, 5717 Corbett Hall, Orono, Maine 04469, has requested a modification to scientific research Permit No. 1595-01.

DATES: Written, telefaxed, or e-mail comments must be received on or before March 10, 2008.

ADDRESSES: The modification request and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1595.

FOR FURTHER INFORMATION CONTACT: Brandy Belmas or Malcolm Mohead, (301)713-2289.

SUPPLEMENTARY INFORMATION: The subject modification to Permit No. 1595-01, issued on May 1, 2007 (72 FR 19469) is requested under the authority of the Endangered Species Act of 1973, as amended (16 U.S.C. 1531 et seq.), and the regulations governing the taking, importing, and exporting of endangered and threatened species (50 CFR 222-226).

Permit No. 1595-01 authorizes the permit holder to: capture, anesthetize, measure, weigh, sex (borescope), Carlin and PIT tag, recover and release up to 70 sub-adult and adult shortnose sturgeon annually. Up to 30 sub-adult and adult shortnose sturgeon, annually, would be fitted (or implanted) with an external (or internal) transmitter, in addition to the previously mentioned procedures. This permit also authorizes the annual lethal take of up to 50 shortnose sturgeon eggs, up to 30 of which may be transported to the lab for genetic sampling. Up to 2 incidental mortalities of shortnose sturgeon each year is also currently authorized.

The permit holder is now requesting authorization to: (1) increase the total annual take of shortnose sturgeon from 100 fish to 200 fish; (2) expand netting efforts to include currently restricted areas (i.e., within 0.5 miles of the confluence of the Penobscot River with Cove Brook, and the Kenduskeag River); (3) add D-net sampling as a method of sturgeon egg collection; (4) add non-lethal blood sampling as a procedure (which would be conducted on up to 30 fish of which the capture and handling is already authorized); and (5) add and remove personnel authorized to conduct research activities. The purpose of the proposed modification is to better assess the distribution, movements, abundance and spawning of shortnose sturgeon in the Penobscot River, Maine. This modification would be valid through the expiration date of the original permit, March 31, 2012.

Dated: February 1, 2008.
P. Michael Payne,
Chief, Permits, Conservation and Education Division, Office of Protected Resources, National Marine Fisheries Service.

[FR Doc. E8-2277 Filed 2-6-08; 8:45 am]

BILLING CODE 3510-22-S